GENERAL SERVICES ADMINISTRATION

Office of Management Services

Paper Requirement for Office of Personnel Management (OPM) Standard Forms

AGENCY: Office of Management Services, GSA.

ACTION: Notice.

SUMMARY: Currently the Office of Personnel Management (OPM) requires that certain OPM promulgated Standard Forms, when electronically generated, be reproduced on specified color paper. Although OPM prefers to receive the forms on colored paper, they are waiving this requirement on electronically generated forms. The following statement however, must appear on these forms: “This is the electronic version of the form.”

For duplicated forms, individuals should try to reproduce on the specified colored paper. This will increase processing time, but forms duplicated on white paper will still be accepted.

FOR FURTHER INFORMATION CONTACT: Ms. Barbara Williams, General Services Administration, (202) 501-0581.

DATES: Effective February 5, 2003.

Dated: January 27, 2003.
Barbara M. Williams,
Deputy Standard and Optional Forms Management Officer, General Services Administration.

[FR Doc. 03-2809 Filed 2-4-03; 8:45 am]

BILLING CODE 6820-34-M